DEPARTMENT OF AGRICULTURE

Submission for OMB Review; Comment Request

April 30, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by June 5, 2015 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Data on Nonresident.

OMB Control Number: 0560—New.

Summary of Collection: 26 CFR Chapter 3 requires any individual to report taxes to the IRS. The Farm Service Agency (FSA) will be using the FSA-500 Data on Nonresident Applicants, to verify each applicant's citizenship, if applications for payments are filed by or for applicants who reside outside the United States, its territories or possessions, even if the application is filed by an agent of the applicant whose address is in the United States.

Need and Use of the Information: The FSA-500 request the applicant's name, address, United States citizenship and signature of applicant or authorized agent. The data collected on the FSA-500 will assist in ensuring foreign taxes are collected and reported to the IRS accurately.

Description of Respondents: Individuals or households.

Number of Respondents: 55.

Frequency of Responses: Reporting; on occasion.

Total Burden Hours: 60.

Ruth Brown,
Departmental Information Collection Clearance Officer.

[FR Doc. 2015-10529 Filed 5-5-15; 8:45 am]

BILLING CODE 3410-05-P